SECURITIES AND EXCHANGE COMMISSION

[Release No. 34-69374; File No. SR-CME-2013-05]

Self-Regulatory Organizations; Chicago Mercantile Exchange Inc.; Notice of Filing and Immediate Effectiveness of Proposed Rule Change Related to the Acquisition of the Kansas City Board of Trade Clearing Corporation

April 15, 2013.

Pursuant to Section 19(b)(1) of the Securities Exchange Act of 1934 (“Act”),¹ and Rule 19b-4 thereunder,² notice is hereby given that on April 4, 2013, Chicago Mercantile Exchange Inc. (“CME”) filed with the Securities and Exchange Commission (“Commission”) the proposed rule change as described in Items I, II and III below, which Items have been prepared primarily by CME. CME filed the proposed rule change pursuant to Section 19(b)(3)(A) of the Act,³ and Rule 19b-4(f)(4)(ii) ⁴ thereunder, so that the proposal was effective upon filing with the Commission. The Commission is publishing this notice to solicit comments on the proposed rule change from interested persons.

¹ 15 U.S.C. 78s(b)(1).

² 17 CFR 240.19b-4.

³ 15 U.S.C. 78s(b)(3)(A).

⁴ 17 CFR 240.19b-4(f)(4)(ii).

I. Self-Regulatory Organization's Statement of the Terms of Substance of the Proposed Rule Change

CME proposes to adopt revisions to certain CME rules in connection with the November 30, 2012, acquisition of the Kansas City Board of Trade Clearing Corporation (“KCBTCC”) by CME Group Inc., the parent holding company of CME. The proposed changes that are the subject of this filing would establish the eligibility of the Board of Trade of the City of Chicago, Inc. (“CBOT”) and CME Clearing Members to clear trades executed on the Board of Trade of Kansas City, Missouri, Inc. (“KCBT”).

The proposed revisions became effective upon filing but will not become operational until April 15, 2013, or the effective date established by a Commodity Futures Trading Commission (“CFTC”) order permitting the transfer of open interest from the KCBTCC to CME.

II. Self-Regulatory Organizations Statement of the Purpose of, and Statutory Basis for, the Proposed Rule Change

In its filing with the Commission, CME included statements concerning the purpose of, and basis for, the proposed rule change and discussed any comments it received on the proposed rule change. The text of these statements may be examined at the places specified in Item IV below. CME has prepared summaries, set forth in sections A, B, and C below, of the most significant aspects of such statements.

A. Self-Regulatory Organization's Statement of the Purpose of, and Statutory Basis for, the Proposed Rule Change

CME is proposing certain revisions to its rulebook related to its November 30, 2012, acquisition of KCBTCC by CME Group Inc., the parent holding company of CME. KCBTCC is currently the derivatives clearing organization (“DCO”) for transactions executed on the KCBT. CME is the DCO for transactions executed on CME, CBOT, the New York Mercantile Exchange, Inc., and Commodity Exchange, Inc. In a letter dated January 14, 2013, CME and KCBTCC jointly petitioned the CFTC for approval to transfer all open interest from KCBTCC to CME on April 15, 2013. Upon the transfer of open interest from KCBTCC to CME, KCBTCC will cease clearing transactions for KCBT and CME will assume the role of DCO for all trades executed on or through KCBT. To facilitate clearing of KCBT products by CME, the proposed changes that are the subject of this filing would simply establish the eligibility of CBOT and CME Clearing Members (collectively, the “Clearing Members”) to clear trades executed on KCBT.

CME also certified the proposed changes that are the subject of this filing to its primary regulator, the CFTC, in CME Submission 13-115. Although these changes are effective on filing, CME proposes to make them operational on April 15, 2013, or the effective date established by a CFTC order permitting the transfer of open interest from the KCBTCC to CME.

The proposed CME changes relate to CME's activities as a derivatives clearing organization clearing futures transactions. As such, CME believes the proposed changes do not significantly affect the security-based swap clearing operations of CME or any related rights or obligations of CME security-based swap clearing participants. CME believes the proposed change is therefore properly filed under Section 19(b)(3)(A) of the Act ⁵ and Rule 19b-4(f)(4)(ii) ⁶ thereunder because it effects a change in an existing service of a registered clearing agency that primarily affects the futures clearing operations of the clearing agency with respect to futures that are not security futures and does not significantly affect any securities clearing operations of the clearing agency or any related rights or obligations of the clearing agency or persons using such service.

⁵ 15 U.S.C. 78s(b)(3)(A).

⁶ 17 CFR 240.19b-4(f)(4)(ii).

B. Self-Regulatory Organization's Statement on Burden on Competition

CME does not believe that the proposed change will have any impact, or impose any burden, on competition.

C. Self-Regulatory Organization's Statement on Comments on the Proposed Rule Change Received From Members, Participants, or Others

CME has not solicited, and does not intend to solicit, comments regarding this proposed change. CME has not received any unsolicited written comments from interested parties.

III. Date of Effectiveness of the Proposed Rule Change and Timing for Commission Action

The foregoing rule change has been filed pursuant to Section 19(b)(3)(A) of the Act ⁷ and Rule 19b-4(f)(4)(ii) ⁸ thereunder and was effective upon filing but will not become operational until April 15, 2013, or the effective date established by a CFTC order permitting the transfer of open interest from the KCBTCC to CME. At any time within 60 days of the filing of the proposed rule change, the Commission summarily may temporarily suspend such rule change if it appears to the Commission that such action is necessary or appropriate in the public interest, for the protection of investors, or otherwise in furtherance of the purposes of the Act.⁹

⁷ 15 U.S.C. 78s(b)(3)(A).

⁸ 17 CFR 240.19b-4(f)(4)(ii).

⁹ 15 U.S.C. 78s(b)(3)(C).

IV. Solicitation of Comments

Interested persons are invited to submit written data, views and arguments concerning the foregoing, including whether the proposed rule change is consistent with the Act. Comments may be submitted by any of the following methods:

Electronic Comments

• Use the Commission's Internet comment form (http://www.sec.gov/rules/sro.shtml) or

• Send an email to rule-comments@sec.gov. Please include File Number SR-CME-2013-05 on the subject line.

Paper Comments

• Send paper comments in triplicate to Elizabeth M. Murphy, Secretary, Securities and Exchange Commission, 100 F Street NE., Washington, DC 20549-1090.

All submissions should refer to File Number SR-CME-2013-05. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing also will be available for inspection and copying at the principal office of CME and on CME's Web site at http://www.cmegroup.com/market-regulation/files/SEC_19b-4_13-05.pdf.

All comments received will be posted without change; the Commission does not edit personal identifying information from submissions. You should submit only information that you wish to make available publicly. All submissions should refer to File Number SR-CME-2013-05 and should be submitted on or before May 10, 2013.

For the Commission, by the Division of Trading and Markets, pursuant to delegated authority.¹⁰
¹⁰ 17 CFR 200.30-3(a)(12).
Kevin M. O'Neill,
Deputy Secretary.

[FR Doc. 2013-09190 Filed 4-18-13; 8:45 am]

BILLING CODE 8011-01-P